DEPARTMENT OF HEALTH AND HUMAN SERVICES

National Institutes of Health

National Institute of General Medical Sciences; Amended Notice of Meeting

Notice is hereby given of a change in the meeting of the National Institute of General Medical Sciences Special Emphasis Panel, June 20, 2005, 6 p.m. to June 21, 2005, 6 p.m., Bethesda Park Hotel, 8400 Wisconsin Avenue, Bethesda, MD 20814 which was published in the Federal Register on June 3, 2005, 70 FR 32635-36236.

The meeting will now be held at Holiday Inn Chevy Chase, MD. The meeting is closed to the public.

Dated: June 16, 2005.
Anna P. Snouffer,
Acting Director, Office of Federal Advisory Committee Policy.

[FR Doc. 05-12599 Filed 6-23-05; 8:45 am]

BILLING CODE 4140-01-M